DEPARTMENT OF HOUSING AND URBAN DEVELOPMENT

[Docket No. FR-5478-N-03]

Privacy Act of 1974; Notice of a Computer Matching Program Between the Department of Housing and Urban Development (HUD) and the United States Department of Education (ED)

AGENCY: Office of the Chief Information Officer, HUD.

ACTION: Notice of a computer matching program between the HUD and ED.

SUMMARY: In accordance with the Privacy Act of 1974 (5 U.S.C. 552a), as amended by the Computer Matching and Privacy Protection Act of 1988 (Pub. L. 100-503), and the Office of Management and Budget (OMB) Guidelines on the Conduct of Matching Programs (June 19, 1989, 54 FR 25818), and OMB Bulletin 89-22, “Instructions on Reporting Computer Matching Programs to the Office of Management and Budget (OMB), Congress and the Public,” HUD is issuing a public notice of its intent to conduct a recurring computer matching program with the ED to utilize a computer information system of HUD, the Credit Alert Interactive Verification Reporting System (CAIVRS), with ED's debtor files.

DATES: Effective Date: The effective date of this agreement, and the date the match may begin is the later of the following dates: 40 days after HUD files a report of the subject matching program with the Committee on Oversight and Government Reform of the House of Representatives, the Committee on Homeland Security and Governmental Affairs of the Senate, and the Office of Management and Budget's (OMB), Office of Information and Regulatory Affairs; or 30 days after HUD publishes notice of the computer matching program in the Federal Register, unless changes to the matching program are required due to public comments or by Congressional or by Office of Management and Budget objections. Any public comment must be received before the effective comment due date.

Comments Due Date: August 4, 2011.

ADDRESSES: Interested persons are invited to submit comments regarding this notice to the Rules Docket Clerk, Office of General Counsel, HUD, 451 Seventh Street, SW., Room 10276, Washington, DC 20410. Communications should refer to the above docket number and title. A copy of each communication submitted will be available for public inspection and copying between 8 a.m. and 5 p.m. weekdays at the above address.

FOR FURTHER INFORMATION CONTACT: For Privacy Act inquires contact Donna Robinson-Staton, Chief Privacy Officer, Department of Housing and Urban Development, Office of the Chief Information Officer, 451 Seventh Street, SW., Room 2256, Washington, DC 20410, telephone number (202) 402-8073. For program related information from the “Recipient Agency” contact Debbie A. Agosto, Management Analyst, Department of Housing and Urban Development Office of Housing, Single Family Home Mortgage Insurance Division, 451 Seventh Street, SW., Room 9266, Washington, DC 20410, telephone number (202) 402-4312. For program related information from the “Source Agency” contact Cynthia M. Hill, Management and Program Analyst, U.S. Department of Education, Federal Student Aid Contracts Oversight Division, 830 First Street, NE., Room 61F1-UCP, Washington, DC 20202, telephone number (202) 377-3267. (These are not toll free telephone numbers). A telecommunications device for hearing- and speech-impaired individuals (TTY) is available at (800) 877-8339 (Federal Information Relay Service).

SUPPLEMENTARY INFORMATION: HUD's data in the CAIVRS database includes delinquent debt information from the Department of Education, Veterans Affairs, Department of Justice, and the Small Business Administration. The data received from the participating agencies will allow prescreening of applicants for debts owed or loans guaranteed by the Federal government to ascertain if the applicant is delinquent in paying a debt owed to or insured by the Federal government for HUD or ED direct or guaranteed loans. Before granting a loan, the lending agency and/or the authorized lending institution will be able to interrogate the CAIVRS debtor files which contains the Social Security Numbers (SSNs) of HUD's delinquent debtors and defaulters and defaulted debtor records of ED and verify that the loan applicant is not in default or delinquent on a direct or guaranteed loans of participating Federal programs of either agency. As a result of the information produced by this match, the authorized users may not deny, terminate, or make a final decision of any loan assistance to an applicant or take other adverse action against such applicant, until an officer or employee of such agency has independently verified such information.

Reporting of a Matching Program

In accordance with the Computer Matching and Privacy Protection Act of 1988 (Pub. L. 100-503), as amended. Copies of this notice are being provided to the Office of Management and Budget (OMB), the Senate Committee on Homeland Security and Governmental Affairs, and the House Committee on Oversight and Government Reform.

Authority: The matching program will be conducted pursuant to “The Computer Matching and Privacy Protection Act of 1988 (Pub. L. 100-503),” as amended, and OMB Circular A-129 (Revised January 1993), Policies for Federal Credit Program and Non-Tax Receivables. One of the purposes of all Executive departments and agencies, including HUD is to implement efficient management practices for Federal credit programs. OMB Circular A-129 was issued under the authority of the Budget and Accounting Act of 1921, as amended; the Budget and Accounting Act of 1950, as amended; the Debt Collection Act of 1982, as amended; and, the Deficit Reduction Act of 1984, as amended.

Objectives To Be Met by the Matching Program

The matching program will allow ED access to HUD's Credit Alert Verification System which permits prescreening of applicants for loans owed or guaranteed by the Federal government to ascertain if the applicant is delinquent in paying a debt owed to or insured by the Government.

Records To Be Matched

HUD will use records from its systems of records HUD/SFH-01, Single Family Default Monitoring System; HUD/SFH-02, Single Family Insurance System CLAIMS Subsystem; HUD/HS-55, Debt Collection Asset Management System; and HUD/HS-59, Single Family Mortgage Asset Recovery Technology. The Single Family Default Monitoring System was published in the Federal Register on November 20, 2007 (72 FR 65350); the Single Family Insurance System CLAIMS Subsystem was published in the Federal Register on November 20, 2007 (72 FR 65348); the Debt Collection Asset Management was originally published in the Federal Register on June 26, 2006 (71 FR 36351) and subsequently amended on November 13, 2007 (72 FR 63919); and the Single Family Mortgage Asset Recovery Technology was published in the Federal Register on August 1, 2007 (72 FR 42102) and subsequently amended on June 18, 2010 (75 FR 34755). The debtor files for programs involved are included in these systems of records. HUD's debtor files contain information on borrowers and co-borrowers who are currently in default (at least 90 days delinquent on their loans) or who have had their partial claim subordinate mortgage called due and payable and it has not been repaid in full or who have any outstanding claims paid during the last three years on a Title I insured or guaranteed home mortgage loan. ED will provide HUD with debtors files contained in its system of records entitled, “Title IV Program Files” (18-11-05), originally published in the Federal Register on June 4, 1999 (64 FR 30163) and subsequently amended on December 27, 1999 (64 FR 72407). ED records from which the information is compiled are maintained in the Student Financial Assistance Collection system of records (18-11-07). The ED routine use for this match is published as routine use number one in the system of records notice for the Student Financial Assistance Collection, which permits disclosures of the pertinent information to HUD.

Notice Procedures

HUD and ED will notify individuals at the time of application (ensuring that routine use appears on the application form) for guaranteed or direct loans that their records will be matched to determine whether they are delinquent or in default on a Federal debt. HUD and ED will also publish notices concerning routine use disclosures in the Federal Register to inform individuals that a computer match may be performed to determine a loan applicant's credit status with the Federal government.

Categories of Records/Individuals Involved

The debtor records include these data elements: SSN, claim number, program code, and indication of indebtedness. Categories of records include: Records of claims and defaults, repayment agreements, credit reports, financial statements, and records of foreclosures. Categories of individuals include: Former mortgagors and purchasers of HUD-owned and home improvement loan debtors who are delinquent or default on their loans or who have had their partial claim subordinate mortgage called due and payable and it has not been repaid in full.

Period of the Match

Matching is expected to begin at least 40 days from the date copies of the signed (by both HUD and ED's Data Integrity Boards) computer matching agreement are sent to both Houses of Congress or at least 30 days from the date this notice is published in the Federal Register, which ever is later, providing no comments are received which would result in a contrary determination. The matching program will be in effect and continue for 18 months with an option to renew for 12 additional months unless one of the parties to the agreement advises the other in writing to terminate or modify the agreement.

Dated: June 20, 2011.
Kevin R. Cooke,
Deputy Chief Information Officer.

[FR Doc. 2011-16767 Filed 7-1-11; 8:45 am]

BILLING CODE 4210-67-P